DEPARTMENT OF TRANSPORTATION

Federal Highway Administration

Cancellation of Supplemental Environmental Impact Statement (SEIS); Travis County, TX

AGENCY: Federal Highway Administration (FHWA), DOT.

ACTION: Cancellation of Notice of Intent to Prepare a SEIS.

SUMMARY: In Vol. 73, No. 106/June 2, 2008/Notices, Federal Highway Administration (FHWA) issued a Notice of Intent (NOI) to advise the public that a Supplemental Environmental Impact Statement (SEIS) would be prepared for the proposed SH 71 roadway between Riverside Drive and SH 130 in Travis County, Texas. The FHWA is issuing this notice to advise the public that the NOI to prepare a SEIS for proposed improvements to State Highway (SH) 71 from Riverside Drive to SH 130, in Travis County, Texas, is being rescinded.

FOR FURTHER INFORMATION CONTACT: Mr. Salvador Deocampo, District Engineer, District A, Federal Highway Administration (FHWA), Texas Division, 300 East 8th Street, Rm 826, Austin, Texas 78701, Telephone 512-536-5950.

SUPPLEMENTARY INFORMATION: The Texas Department of Transportation (TxDOT), in cooperation with the FHWA, announced its intent to prepare a limited-scope SEIS pursuant to 40 CFR 1508.22 and 43 TAC Sec. 2.5(e)(2) for proposed improvement of SH 71 from Riverside Drive to SH 130, in Travis County, Texas. The improvements proposed between Riverside Drive and Farm-to-Market Road (FM) 973 were originally considered in a Final Environmental Impact Statement (FEIS) covering improvements to SH 71/US 290 from Ranch-to-Market Road (RM) 1826 to FM 973. A Record of Decision (ROD) was issued by FHWA on August 22, 1988. The mid-section of the original project limits, between Joe Tanner Lane and Riverside Drive, has been constructed. The limited-scope SEIS would have evaluated potential impacts resulting from tolling, changes in adjacent land use, the construction of SH 130, and proposed design modifications since the issuance of the SH 71/US 290 ROD along the unconstructed eastern portion of the original FEIS, between Riverside Drive and FM 973. The improvements, as proposed in 2008, are not included in the Capital Area Metropolitan Planning Organization (CAMPO) 2035 Transportation Plan. However, non-tolled improvement of SH 71 at Riverside Drive is included in the CAMPO 2035 Plan, and is consistent with prior federal approvals on the project.

TxDOT and FHWA have decided to rescind the Notice of Intent to Prepare a Supplemental Environmental Impact Statement for SH 71 from Riverside Drive to SH 130. The decision to rescind the NOI is due to the limited availability of funds and local planning priorities. The SEIS was in the preliminary stages of development. One public meeting was held June 24, 2008, at Del High School in Del Valle, Texas. Appropriate environmental documents will be completed in the future as components of the project proceed through project development as funding becomes available.

Issued on: August 31, 2010.
Salvador Deocampo,
District Engineer, FHWA Texas Division.

[FR Doc. 2010-22180 Filed 9-3-10; 8:45 am]

BILLING CODE 4910-22-P